FEDERAL COMMUNICATIONS COMMISSION

[FCC 02-277]

Guidelines for Ensuring and Maximizing the Quality, Objectivity, Utility and Integrity of Disseminated Information

AGENCY: Federal Communications Commission.

ACTION: Notice.

SUMMARY: The Federal Communications Commission (Commission) has published its Information Quality Guidelines on its Internet web site. The guidelines were developed pursuant to the requirements of the Data Quality Act, Section 515 of Public Law No. 105-554, and the implementing rules of the Office of Management and Budget's (OMB's) Guidelines for Ensuring and Maximizing the Quality, Objectivity, Utility and Integrity of Information Disseminated by Federal Agencies, 67 FR 8452, February 22, 2002.

FOR FURTHER INFORMATION CONTACT: Dr. Karen Wheeless, Office of Managing Director, 202-418-2910, or by e-mail to kwheeles@fcc.gov.

SUPPLEMENTARY INFORMATION: Section 515 of the Treasury and General Government Appropriations Act for Fiscal Year 2001 (Public Law 106-554) directed OMB to issue government-wide guidelines that “provide policy and procedural guidance to Federal agencies for ensuring and maximizing the quality, objectivity, utility and integrity of information (including statistical information) disseminated by Federal agencies.” The OMB guidelines required each agency to make a draft of its guidelines available for public review by May 1, 2002. Revised drafts were provided to OMB for review by August 1, 2002. Final guidelines were to be available on an agency's Internet site by October 1, 2002. The Guidelines can be found at http://www.fcc.gov/omd/dataquality. Information on how to file a complaint regarding an information dissemination product covered by these guidelines can also be found at the same location.

Federal Communications Commission.
Marlene H. Dortch,
Secretary.

[FR Doc. 02-26236 Filed 10-15-02; 8:45 am]

BILLING CODE 6712-01-P